DEPARTMENT OF ENERGY

Federal Energy Regulatory Commission

[Docket No. EL20-28-000]

Edenton Solar, LLC Complainant, v. Virginia Electric and Power Company Respondent; Notice of Complaint

Take notice that on February 28, 2020, pursuant to section 206 of the Federal Power Act and Rule 206 of the Rules of Practice and Procedures of the Federal Energy Regulatory Commission (Commission), 18 CFR 385.206, Edenton Solar, LLC (Edenton Solar or Complainant) filed a complaint against Virginia Electric and Power Company (VEPCO or Respondent), requesting the Commission find that Edenton Solar has met the requirements for commencement of service under the Agreement for the Sale of Electrical Output to VEPCO dated November 9, 2017, as more fully explained in the complaint.

The Complainant certifies that copies of the complaint were served on the contacts for the Respondent as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. All interventions, or protests must be filed on or before the comment date.

The Commission encourages electronic submission of protests and interventions in lieu of paper using the “eFiling” link at http://www.ferc.gov. Persons unable to fileelectronically should submit an original and 5 copies of the protest or intervention to the Federal Energy Regulatory Commission, 888 First Street NE Washington, DC 20426.

This filing is accessible on-line at http://www.ferc.gov, using the “eLibrary” link and is available for electronic review in the Commission's Public Reference Room in Washington, DC. There is an “eSubscription” link on the website that enables subscribers to receive email notification when a document is added to a subscribed docket(s). For assistance with any FERC Online service, please email FERCOnlineSupport@ferc.gov, or call (866) 208-3676 (toll free). For TTY, call (202) 502-8659.

Comment Date: 5:00 p.m. Eastern Time on March 13, 2020.

Dated: March 4, 2020.
Nathaniel J. Davis, Sr.,
Deputy Secretary.

[FR Doc. 2020-04873 Filed 3-9-20; 8:45 am]

BILLING CODE 6717-01-P